DEPARTMENT OF THE INTERIOR

Bureau of Land Management

[WY-100-05-1310-DB]

Notice of Intent To Prepare Supplemental Information for the Jonah Infill Drilling Project Environmental Impact Statement, Pinedale, WY

AGENCY: Bureau of Land Management, Interior.

ACTION: Notice of intent.

SUMMARY: Under Section 102 (2) (C) of the National Environmental Policy Act (NEPA) of 1969, as amended, the Bureau of Land Management (BLM) Pinedale Field Office announces its intent to prepare supplemental information regarding the potential impacts to air quality of a proposed natural gas development project. On February 11, 2005, the BLM published in the Federal Register a Notice of Availability of a Draft Environmental Impact Statement (DEIS) for the Jonah Infill Drilling Project (JIDP) for public review and comment. The BLM will continue to accept comments from the public on only the air quality information presented in the DEIS.

DATES: Effective April 12, 2005, this notice provides the public additional time to continue to submit comments on only the air quality information presented in the JIDP DEIS. When the supplemental information is available for public review and comment, the BLM will publish a Notice of Availability in the Federal Register and provide the public with the opportunity to review and comment. In addition, announcements will be made through local media and posted on the BLM-Wyoming's Web site: http://www.wy.blm.gov.

ADDRESSES: A copy of the DEIS has been sent to affected Federal, State and local Government agencies and to other interested parties. An electronic copy of the DEIS may be viewed or downloaded from the BLM Web site at http://www.wy.blm.gov/pfo. Copies of the DEIS are available for public inspection at the following BLM office locations:

• Bureau of Land Management, Wyoming State Office, 5353 Yellowstone Road, Cheyenne, Wyoming.

• Bureau of Land Management, Pinedale Field Office, 432 East Mill Street, Pinedale, Wyoming.

FOR FURTHER INFORMATION CONTACT: BLM Pinedale Field Office, Carol Kruse, Project Manager, 432 East Mill Street, Pinedale, Wyoming, P.O. Box 768 Pinedale, Wyoming 82941. Ms. Kruse may also be reached at (307) 367-5352.

SUPPLEMENTARY INFORMATION: Please note that public comments and information submitted regarding this project, including names, e-mail addresses, and street addresses of the respondents, will be available for public review and disclosure at the above address during regular business hours (7:45 a.m. to 4:30 p.m.) Monday through Friday, except holidays. Individual respondents may request confidentiality. If you wish to withhold your name, email address, or street address from public review or from disclosure under the Freedom of Information Act, you must state this prominently at the beginning of your written comment. Such requests will be honored to the extent allowed by the law. All submissions from organizations or businesses, and from individuals identifying themselves as representatives or officials of organizations or businesses, will be made available for public inspection in their entirety.

Dated: April 1, 2005.
Robert A. Bennett,
State Director.

[FR Doc. 05-7418 Filed 4-8-05; 1:51 pm]

BILLING CODE 4310-22-P